FEDERAL DEPOSIT INSURANCE CORPORATION

12 CFR Part 327

RIN 3064-AD08

One-Time Assessment Credit; Correction

AGENCY: Federal Deposit Insurance Corporation (FDIC).

ACTION: Notice of proposed rulemaking; correction.

SUMMARY: This document corrects the preamble to the proposed rule published in the Federal Register of May 18, 2006, regarding the One-time Assessment Credit. Specifically, this document corrects the Agency Web site for submitting comments on this proposed rule.

FOR FURTHER INFORMATION CONTACT: Munsell W. St. Clair, Senior Policy Analyst, Division of Insurance and Research, (202) 898-8967; Donna M. Saulnier, Senior Assessment Policy Specialist, Division of Finance, (703) 562-6167; and Kymberly K. Copa, Counsel, Legal Division, (202) 898-8832.

Correction

In the proposed rule FR Doc. E6-7583, beginning on page 28809 in the issue of May 18, 2006, make the following correction to the Agency Web site in the ADDRESSES section:

“You may submit comments, identified by RIN number by any of the following methods:

• Agency Web site: http://www.fdic.gov/regulations/laws/federal/propose.html. Follow instructions for submitting comments on the Agency Web site.”

Please note that the Agency Web site contains a slash (“/”) mark between the words “federal” and “propose.html.”

Dated: May 18, 2006.
Carol L. Middlebrook,
Special Assistant to the Executive Secretary.

[FR Doc. E6-8000 Filed 5-24-06; 8:45 am]

BILLING CODE 6714-01-P